DEPARTMENT OF COMMERCE

International Trade Administration

(A-475-818)

Certain Pasta from Italy: Extension of Time Limits for the Preliminary Results of Antidumping Duty Administrative Review

AGENCY: Import Administration, International Trade Administration, Department of Commerce.

SUMMARY: The Department of Commerce (the Department) is extending the due date for the preliminary results of review of the antidumping duty order on certain pasta from Italy from April 4, 2005, to July 18, 2005.

EFFECTIVE DATE: December 14, 2004.

FOR FURTHER INFORMATION CONTACT: Dennis McClure at (202) 482-5973, AD/CVD Operations, Office 3, Import Administration, International Trade Administration, U.S. Department of Commerce, 14th Street and Constitution Ave, NW, Washington, DC 20230.

SUPPLEMENTARY INFORMATION:

Statutory Time Limits

Section 751(a)(3)(A) of the Tariff Act of 1930, as amended (the Act), requires the Department to issue the preliminary results of a review within 245 days after the last day of the anniversary month of an order/finding for which a review is requested and the final results within 120 days after the date on which the preliminary results are published. However, if it is not practicable to complete the review within that time period, section 751(a)(3)(A) of the Act allows the Department to extend the time limit for the preliminary results to a maximum of 365 days and for the final results to 180 days (or 300 days if the Department does not extend the time limit for the preliminary results) from the date of the publication of the preliminary results.

Background

On August 30, 2004, the Department published a notice of initiation of the administrative review of the antidumping duty order on certain pasta from Italy, covering the period July 1, 2003, to June 30, 2004 (69 FR 52857). The preliminary results are currently due no later than April 4, 2005.

Extension of Preliminary Results of Review

There are six Italian respondents in this review, two of whom have requested revocation. The Department needs additional time to consider issues related to whether revocation is appropriate for the companies requesting it and to conduct verifications, if needed. Specifically, certain of the companies have multiple factories and sales offices and have presented issues of affiliation which will require additional time to analyze.

We, therefore, determine that it is not practicable to complete the preliminary results of this review within the original time limit and are extending the time limit for completion of the preliminary results until no later than July 18, 2005. We intend to issue the final results no later than 120 days after the publication of the notice of preliminary results of this review.

This extension is in accordance with section 751(a)(3)(A) of the Act.

Dated: December 7, 2004.
Barbara E. Tillman,
Acting Deputy Assistant Secretary for Import Administration.

[FR Doc. E4-3639 Filed 12-13-04; 8:45 am]

BILLING CODE 3510ndash;DS-S